GOVERNMENT PUBLISHING OFFICE

Depository Library Council Meeting

AGENCY: U.S. Government Publishing Office.

ACTION: Notice of meeting.

SUMMARY: The Depository Library Council (DLC) will meet virtually in conjunction with the Federal Depository Library Conference from Monday, October 21, 2024, through Wednesday, October 23, 2024. The meetings will take place online, and anyone may register to attend at https://www.fdlp.gov/2024-fdl-conference. Closed captioning will also be provided. The purpose is to discuss matters affecting the Federal Depository Library Program. All sessions are open to the public.

DATES: October 21-23, 2024.

Hugh Nathanial Halpern,
Director, U.S. Government Publishing Office.

[FR Doc. 2024-24114 Filed 10-17-24; 8:45 am]

BILLING CODE 1520-01-P